DEPARTMENT OF THE INTERIOR

Bureau of Land Management

[BLM_HQ_FRN_MO4500180111]

Notice of Availability of the Record of Decision for the Final Programmatic Environmental Impact Statement for the Approval of Herbicide Active Ingredients for Use on Public Lands

AGENCY: Bureau of Land Management, Interior.

ACTION: Notice of availability.

SUMMARY: The Bureau of Land Management (BLM) announces the availability of the Record of Decision (ROD) for the Final Environmental Impact Statement (EIS) for the Approval of Herbicide Active Ingredients for Use on Public Lands. The ROD constitutes the decision of the BLM.

DATES: The Assistant Director for Resources and Planning signed the ROD on 7/1/2024.

ADDRESSES: The ROD is available via the internet at https://go.usa.gov/xtk6a.

FOR FURTHER INFORMATION CONTACT: Seth Flanigan, Project Manager, telephone: 208-373-4094; email: sflanigan@blm.gov. Individuals in the United States who are deaf, deafblind, hard of hearing, or have a speech disability may dial 711 (TTY, TDD, or TeleBraille) to access telecommunications relay services for contacting Mr./Ms. POC's last name. Individuals outside the United States should use the relay services offered within their country to make international calls to the point-of-contact in the United States.

SUPPLEMENTARY INFORMATION: This document provides notice that the BLM has published a ROD for a final programmatic EIS and approved seven additional herbicide active ingredients for use in vegetation treatments on BLM-managed public lands.

Purpose and Need for the Proposed Action

The BLM's purpose and need is to improve the effectiveness of its invasive plant management efforts by allowing the use of Environmental Protection Agency (EPA)-registered active ingredients not currently authorized for use on BLM public lands. Approving additional active ingredients diversifies the BLM's herbicide treatment options and helps meet the purposes that were first identified in the 2007 and 2016 programmatic EISs related to vegetation treatments, which are to make herbicides available for vegetation treatment on public lands and to describe the stipulations that apply to their use.

Decision

The BLM has approved seven additional herbicide active ingredients, including aminocyclopyrachlor, clethodim, fluozifop-p-butyl, flumioxazin, imazamox, indaziflam, and oryzalin, for use in vegetation treatments on public lands. These active ingredients are registered by the EPA. In making this decision, the BLM adopted and relied on Human Health and Ecological Risk Assessments prepared by the U.S. Forest Service.

(Authority: 40 CFR 1506.6)

Sharif Branham,
Assistant Director for Resources and Planning.

[FR Doc. 2024-15279 Filed 7-11-24; 8:45 am]

BILLING CODE 4331-27-P